DEPARTMENT OF THE INTERIOR

Bureau of Land Management

[BLM_NV_FRN_MO4500180600]

Notice of Availability of the Draft Environmental Impact Statement and Proposed Resource Management Plan Amendments for the Proposed Greenlink North Transmission Project in White Pine, Eureka, Lander, Churchill, and Lyon Counties, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared Draft Resource Management Plan Amendments (RMPA) and a Draft Environmental Impact Statement (EIS) for the Greenlink North Transmission Project and by this notice is providing information announcing the opening of the comment period on the Draft RMPA/EIS. The BLM Nevada State Office is the lead agency for purposes of the NEPA analysis, with the U.S. Forest Service and other agencies participating as Cooperating Agencies.

DATES: This notice announces the opening of a 90-day comment period for the Draft RMPA/EIS beginning with the date following the Environmental Protection Agency's (EPA) publication of its Notice of Availability (NOA) in the Federal Register. The EPA usually publishes its NOAs on Fridays.

To afford the BLM the opportunity to consider comments in the Draft RMPA/EIS, please ensure your comments are received prior to the close of the 90-day comment period or 15 days after the last public meeting, whichever is later.

ADDRESSES: The Draft RMPA/EIS is available for review on the BLM project website at: https://eplanning.blm.gov/eplanning-ui/project/2017033/510.

• Website: https://eplanning.blm.gov/eplanning-ui/project/2017033/510.

• Email: blm_nv_greenlinknorth@blm.gov.

• Mail: BLM, Nevada State Office, Attn: Greenlink North Transmission Project, 1340 Financial Boulevard, Reno, NV 89502.

Documents pertinent to this proposal may be examined online at https://eplanning.blm.gov/eplanning-ui/project/2017033/510 and at the BLM Nevada State Office in Reno.

FOR FURTHER INFORMATION CONTACT: Brian Buttazoni, Project Manager, telephone: (775) 861-6491; address: 1340 Financial Boulevard, Reno, NV 89502; email: blm_nv_greenlinknorth@blm.gov. Contact us at this email address to have your name added to our mailing list. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM Nevada State Director has prepared a Draft RMPA/EIS, and provides information announcing the opening of the comment period. The RMP amendments would change the existing 2001 Consolidated Resource Management Plan in the Carson City District, 1986 Shoshone-Eureka Resource Management Plan/Record of Decision in the Battle Mountain District, and 2008 Record of Decision/Resource Management Plan in the Ely District. The Draft RMPA is being considered to allow the BLM to evaluate the establishment of a 210 mile long by 3,500 foot wide utility corridor within greater sage-grouse habitat management areas and in proximity to lek buffers on BLM-administered lands, which would require amending the land use plans listed above. The original proposed utility corridor width (3 miles) and length (235 miles) was reduced after scoping to be consistent with other national utility corridor widths, and to clarify the length applies to BLM-administered lands only.

The planning area is in White Pine, Eureka, Lander, Churchill, and Lyon counties, Nevada, and encompasses approximately 84,700 acres of BLM-administered lands.

A Notice of Intent to Amend the Resource Management Plans for the Greenlink North Transmission Project and Prepare an Associated Environmental Impact Statement was published in the Federal Register on March 11, 2024 (89 FR 17510), providing notice to the public of potential amendments to RMPs, as required by 43 CFR 1610.2(c). The public scoping period closed on April 10, 2024. The BLM held one virtual meeting and received approximately 25 public scoping comment emails and letters during the 30-day scoping period. The scoping comments focused on biological resources; alternatives development; visual resources; cultural resources; impacts to general and special-status wildlife species, including threatened and endangered species and their habitat; social and economic conditions; vegetation/riparian/noxious and invasive weeds/special status plant species; water resources; special designations; recreation; socioeconomic concerns; and Native American cultural/sacred sites. The BLM prepared a scoping report, which is available on the project's website— https://eplanning.blm.gov/eplanning-ui/project/2017033/510.

Purpose and Need

The BLM's purpose and need for this Federal action is to respond to the right-of-way (ROW) application submitted by NV Energy under Title V of FLPMA (43 U.S.C. 1761) on July 20, 2020, to construct, operate, maintain, and decommission a proposed system of new 525-kV, 345-kV, 230-kV, and 120-kV electric transmission facilities on BLM-administered lands in White Pine, Eureka, Lander, Churchill, and Lyon counties, in compliance with FLPMA, BLM ROW regulations, NEPA, the BLM NEPA Handbook (BLM 2008), U.S. Department of the Interior NEPA regulations, and other applicable federal and state laws and policies. In accordance with FLPMA, public lands are to be managed for multiple uses that consider the long-term needs of future generations for renewable and non-renewable resources. The BLM is authorized to grant ROWs on public lands for systems of generation, transmission, and distribution of electrical energy (FLPMA section 501(a)(4)).

The U.S. Forest Service, Humboldt-Toiyabe National Forest also received an application from NV Energy for an approximately 10-mile segment of the project. The Forest Service's purpose and need is to respond to NV Energy's application for a Special Use Permit to construct, operate, maintain, and decommission the proposed 500-kV transmission line on National Forest System land in Lander County in compliance with FLPMA, the National Forest Management Act (16 U.S.C. 1601-1614), and the Toiyabe National Forest Land and Resource Management Plan (Forest Service 1986 as amended), which provides standards and guidelines for managing the National Forest.

Alternatives Including the Preferred Alternative

The BLM has analyzed 3 action alternatives in detail, plus the No Action Alternative. The State Director and Forest Supervisor have identified NV Energy's Proposed Action with three modified segments crossing BLM and National Forest System land as the Preferred Alternative. The first modified segment realigns the Proposed Action south of the public purpose conveyance parcels that will be transferred to Churchill County as a result of the National Defense Authorization Act of 2023. This alternative segment would be approximately 8 miles long and would slightly reduce the disturbance footprint of the 525 kV transmission line on BLM-administered lands. The second modified segment would realign the Proposed Action further away from the recently established Desatoya Wilderness Area. The third modified segment is the U.S. Forest Service preferred northern alternative route from the Lander Substation that would cross approximately 10 miles of the Humboldt-Toiyabe National Forest and approximately 9 miles of adjacent BLM administered lands to the east. The route would parallel an existing 230 kV transmission line within the Forest's existing utility corridor until reconnecting with the Proposed Action route. The reconnection with the Proposed Action route 9 miles east of the Humboldt-Toiyabe National Forest provides the most technically feasible way to reduce the cost, line angles, and disturbances from the proposed 525 kV transmission line. The BLM further considered 9 additional transmission alternatives but dismissed these alternatives from detailed analysis as explained in the Draft RMPA/EIS.

The Preferred Alternative was found to best meet the State Director's planning guidance and would meet the project's purpose and need while addressing impacts to greater sage-grouse habitats primarily through co-location, which limits new disturbance to areas already impacted by existing transmission lines. The Greenlink North Transmission Project would be co-located for approximately 210 miles of the 233-mile-long proposed transmission line.

Mitigation

The Preferred Alternative for the portions of the project within and adjacent to greater sage-grouse habitats includes the requirement for NV Energy to install anti-perching/nesting deterrents on transmission poles to minimize potential predation by ravens.

Schedule for the Decision-Making Process

Consistent with NEPA and BLM's land use planning regulations, the BLM will include a 30-day public protest period and a concurrent 60-day Governor's consistency review when the BLM publishes the Final EIS/Proposed RMPA. The Final EIS/Proposed RMPA is anticipated to be available in March 2025, with a Record of Decision anticipated in July 2025.

The BLM will be holding a combination of virtual and in-person public meetings. The specific date(s) and location(s) of these meetings will be announced at least 15 days in advance through the Project website.

The BLM will utilize and coordinate the NEPA and land use planning processes for this planning effort to help support compliance with applicable procedural requirements under the Endangered Species Act (16 U.S.C. 1536). The BLM is utilizing the NEPA substitution process to comply with the requirements of section 106 of the National Historic Preservation Act (NHPA), 54 U.S.C. 306108, consistent with 36 CFR 800.8(c). The BLM, as lead federal agency, has incorporated information and the steps of the Section 106 process into the Draft EIS, and publication of the Draft EIS will allow the consulting parties and the public an opportunity to review and comment on the process as provided in 36 CFR 800.8(c)(2). The information about historic and cultural resources and threatened and endangered species within the area potentially affected by the proposed plan will assist the BLM in identifying and evaluating impacts to such resources.

The BLM and U.S. Forest Service will continue to consult with Indian Tribes on a government-to-government basis in accordance with Executive Order 13175, BLM MS 1780, and other Departmental policies. Tribal concerns, including impacts on Indian trust assets and potential impacts to cultural resources, will be given due consideration. Additional government-to-government meetings will occur during this review period.

Forest Service Administrative Review Process

The decision that the U.S. Forest Service will make is subject to a pre-decisional administrative review process, also known as an objection process (36 CFR part 218, subparts A and B). The objection process provides an opportunity for members of the public who have participated in the planning process for the action to have any unresolved concerns reviewed by the U.S. Forest Service prior to a final decision by the Responsible Official.

It is important that reviewers provide their comments at such times and in such manner that they are useful to the agency's preparation of the Final EIS; therefore, comments should be provided prior to the close of the comment period and should clearly articulate the reviewer's concerns and contentions. Commenting during scoping and any other designated opportunity to comment provided by the Responsible Official as prescribed by the applicable regulations will also govern eligibility to object once the Final EIS and draft Record of Decision has been published. Comments received in response to this solicitation, including names and addresses of those who comment, will be part of the public record for this proposed action. Comments submitted anonymously will be accepted and considered; however, they will not be used to establish eligibility for the objection process.

Objections will be accepted only from those who have previously submitted specific written comments regarding the proposed project during scoping or other designated opportunity for public comment in accordance with 36 CFR 218.5(a). Issues raised in objections must be based on previously submitted timely, specific written comments regarding the proposed project unless based on new information arising after designated opportunities.

Before including your address, phone number, email address, or other personal identifying information in your comment, you should be aware that your entire comment—including your personal identifying information—may be made publicly available at any time. While you can ask us in your comment to withhold your personal identifying information from public review, we cannot guarantee that we will be able to do so.

(Authority: 40 CFR 1501.7 and 43 CFR 1610.2)

Jon K. Raby,
State Director.

[FR Doc. 2024-19544 Filed 9-9-24; 8:45 am]

BILLING CODE 4331-21-P